DEPARTMENT OF LABOR

Office of the Secretary

Office of the Assistant Secretary for Administration and Management; Submission for OMB Review; Comment Request

SUMMARY: Under the provisions of the Paperwork Reduction Act of 1995 (44 U.S.C. 3506-3507), the U.S. Department of Labor (DOL) has submitted the following public information collection requirement for review and clearance.

OMB Number: 1225-0072.

Type of Review: Extension.

Title: Applicant Background Questionnaire.

Description: The form gathers information concerning the gender, race or ethnic background, and disability status of applicants for employment. Applicants for employment are asked to voluntarily complete these questions to assist the agency in evaluating and improving its efforts to publicize job openings and to encourage applications for employment, from a diverse group of qualified candidates, including minorities and persons with disabilities. The Department will use the information to assess the effectiveness of specific outreach efforts and means of communicating information on job vacancies. The currently approved form is being extended with no revision.

DATES: Comments will be considered if received on or before April 5, 2004.

Send or deliver written comments to: William Anderson Glasgow, U.S. Department of Labor, Human Resource Center, 200 Constitution Ave., NW., Room N-5470, Washington, DC 20210.

For copies of the form, and further information contact William Anderson Glasgow on (202) 693-7738, or e-mail address glasgow.william@dol.gov.

Estimated number of respondents: 3000.

The average estimated response time: 5 minutes.

Total estimated public burden: 250 hours.

Signed at Washington, DC this 27th day of February, 2004.
Daliza Salas,
Director of Human Resources.

[FR Doc. 04-4836 Filed 3-3-04; 8:45 am]

BILLING CODE 4510-23-M